DEPARTMENT OF COMMERCE

National Oceanic and Atmospheric Administration

50 CFR Part 228

[I.D. 020806A]

Taking of Cook Inlet, Alaska Beluga Whales by Alaska Natives

AGENCY: National Marine Fisheries Service (NMFS), National Oceanic and Atmospheric Administration (NOAA), Commerce.

ACTION: Notice of availability; request for comments.

SUMMARY: The Marine Mammal Protection Act (MMPA) allows NMFS to regulate the subsistence harvest of marine mammals by Alaska Natives when the affected stock of marine mammals is depleted and after the opportunity for a formal hearing on the proposed regulations. After designating the Cook Inlet stock of beluga whales as depleted, NMFS proposed regulations to limit the subsistence harvest from this stock. In December 2000, a formal hearing was conducted on the proposed regulations. In August 2004, a second formal hearing was conducted on proposed long term harvest regulations from 2005 through the CI beluga whale's recovery. The Administrative Law Judge presiding in the August 2004 hearings submitted his recommended decision to the Assistant Administrator for Fisheries (AA) on November 8, 2005. The Judge's recommended decision is available for public review, and NMFS solicits comments on his recommendations.

DATES: Comments must be received by March 8, 2006

ADDRESSES: Copies of the recommended decision may be reviewed and/or copied at the NMFS, Protected Resource Division, 222 West 7th Ave. Room 517, Anchorage, AK 99512; or at the Alaska Regional Office, Protected Resource Division, 709 W 9th St. Room 420, Juneau, AK, 99802. The recommended decision is also available on the Internet (see Electronic Access). Copies of the recommended decision and the entire record of the hearing may be reviewed and/or copied at the Office of Protected Resources, NMFS, 1315 East-West Highway, Silver Spring, MD 20910. Send comments to Kaja Brix, Assistant Regional Administrator, Protected Resources Division, Alaska Region, NMFS, Attn: Lori Durall. Comments may be submitted by:

• Mail: PO Box 21668, Juneau, AK 99802

• Hand delivery: 709 West 9th Street, Room 420A, Juneau, AK

• Fax: 907-586-7557

• E-mail: CIB-MMPA-ALJ-recommended-decision@noaa.gov. Please identify electronic comments with the header: CI Beluga ALJ decision. E-mail comments, with or without attachments, are limited to five (5) megabytes.

• Webform at the Federal eRulemaking Portal: www.regulations.gov. Follow the instructions at that site for submitting comments.

FOR FURTHER INFORMATION CONTACT: Barbara Mahoney, NMFS Alaska Region, Anchorage Field Office, (907) 271-5006; or Kaja Brix, NMFS, Alaska Region, (907) 586-7235.

SUPPLEMENTARY INFORMATION:

Electronic Access

The recommended decision, proposed regulations, and other documents related to the administrative hearing and recovery effort are available on the Internet at the following address: http://www.fakr.noaa.gov/protectedresources/whales/beluga.htm.

Background

NMFS initially proposed regulations limiting the subsistence harvest of beluga whales in Cook Inlet, AK on October 4, 2000 (65 FR 59164). The proposed rule's objectives are to recover the depleted stock of Cook Inlet beluga whales to its optimum sustainable population level while preserving the traditional subsistence use of the marine mammals by Alaska Natives.

Pursuant to Section 101(b) (3) and section 103(d) of the MMPA, an administrative hearing was held prior to regulations being prescribed to limit the subsistence harvest of marine mammals by Alaska Natives. Judge Parlen L. McKenna convened hearings on the proposed rule in December 2000 and August 2004, in Anchorage, AK.

On November 8, 2005, Judge McKenna submitted his recommended decision to the AA for the proposed regulation governing the taking of Cook Inlet, Alaska, beluga whales by Alaska Natives. Federal regulations (50 CFR 228.20) require the AA to make the recommended decision available for public review and comment for a 20-day period. Following the 20-day comment period, the AA must make a final decision on the proposed regulations, which must include the following:

(1) A statement containing a description of the history of the proceeding;

(2) Findings on the issues of fact with the reasons therefor; and

(3) Rulings on issues of law.

The AA's final decision may affirm, modify, or set aside, in whole or in part, the recommended findings, conclusions and decision of the hearing's presiding officer.

The AA's decision must be published in the Federal Register and final regulations shall be promulgated with the decision. In accordance with the administrative regulations, NMFS solicits public comments on Judge McKenna's recommended decision.

Dated: February 10, 2006.
James H. Lecky,
Director, Office of Protected Resources,National Marine Fisheries Service.

[FR Doc. E6-2196 Filed 2-15-06; 8:45 am]

BILLING CODE 3510-22-S